DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 25, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: National Veterinary Service Laboratories; Bovine Spongiform Encephalopathy Surveillance Program.

OMB Control Number: 0579-0409.

Summary of Collection: The Animal Health Protection Act (AHPA) of 2002 (7 U.S.C. 8301-8317) is the primary Federal law governing the protection of animal health. The law gives the Secretary of Agriculture broad authority to detect, control, or eradicate pests or diseases of livestock or poultry. The Secretary may also prohibit or restrict import or export of any animal or related material if necessary, to prevent the spread of any livestock or poultry pest or disease. APHIS' National Veterinary Services Laboratories (NVSL) safeguard U.S. animal health and contribute to public health by ensuring that timely and accurate laboratory support is provided by their nationwide animal health diagnostic system. USDA complies with the standard set by the World Organization for Animal Health for bovine spongiform encephalopathy surveillance.

Need and Use of the Information: APHIS will collect information using forms VS 17-146 and VS 17-146a, BSE Surveillance Submission Form/Continuation Sheet and VS 17-131, BSE Surveillance Data Collection Form. APHIS will use the information collected to safeguard the U.S. animal health population against BSE. Without the information APHIS would be unable to monitor and prevent the incursion of BSE into the United States.

Description of Respondents: Business or other for-profit; State, local or Tribal government.

Number of Respondents: 178.

Frequency of Responses: Recordkeeping; Reporting: On occasion.

Total Burden Hours: 3,421.

Ruth Brown,
Departmental Information Collection Clearance Officer.

[FR Doc. 2023-18266 Filed 8-23-23; 8:45 am]

BILLING CODE 3410-34-P